NATIONAL WOMEN'S BUSINESS COUNCIL

Notice of Public Meeting

In accordance with the Women's Business Ownership Act, Pub. L. 106-554 as amended, the National Women's Business Council (NWBC) would like to announce a forthcoming Council meeting. Topics will include a discussion on the Council's March web cast, a September issue roundtable discussion on Federal procurement outreach to women-owned businesses, a review of recent international events, an open dialogue on women's business issues and the Small Business Administration, and the wearing in of new Council members.

Dates: June 10, 2004.

Addresses: The House Small Business Committee hearing room, 2360 Rayburn House Office Building, Washington, DC.

Time: 9:30 a.m. to 3 p.m.

Status: Open to the public. Attendance by RSVP only.

Contact: National Women's Business Council, 202/205-6695—Katherine Stanley.

Anyone wishing to attend and make an oral presentation at the meeting must contact Katherine Stanley, no later than Monday, June 7, 2004 at (202) 205-6695.

Matthew K. Becker,
Committee Management Officer.

[FR Doc. 04-11349 Filed 5-14-04; 2:17 pm]

BILLING CODE 8025-01-P